DEPARTMENT OF HEALTH AND HUMAN SERVICES

National Institutes of Health

National Institute on Aging; Amended Notice of Meeting

Notice is hereby given of a change in the meeting of the National Institute on Aging Special Emphasis Panel, May 1, 2017, 1:00 p.m. to May 1, 2017, 4:30 p.m., National Institute on Aging, Gateway Building, 7201 Wisconsin Ave, Suite 2W200C, Bethesda, MD, 20892 which was published in the Federal Register on March 31, 2017, 82 FR 16052.

The meeting notice is amended to change the meeting time from 1:00 p.m.-4:30 p.m. to 10:00 a.m.-1:00 p.m. The meeting is closed to the public.

Dated: April 6, 2017.
Melanie J. Pantoja,
Program Analyst, Office of Federal Advisory Committee Policy.

[FR Doc. 2017-07258 Filed 4-10-17; 8:45 am]

BILLING CODE 4140-01-P